ENVIRONMENTAL PROTECTION AGENCY

[EPA-HQ-OA-2025-0172; FRL-13055-01-OMS]

Agency Information Collection Activities; Submission to the Office of Management and Budget for Review and Approval; Comment Request Focus Groups as Used by EPA for Economics Projects (Renewal)

AGENCY: Environmental Protection Agency (EPA).

ACTION: Notice.

SUMMARY: The Environmental Protection Agency (EPA) has submitted an information collection request (ICR), Focus Groups as Used by EPA for Economics Projects (Renewal), (EPA ICR Number 2205.26, OMB Control Number 2090-0028) to the Office of Management and Budget (OMB) for review and approval in accordance with the Paperwork Reduction Act. This is a proposed renewal of the ICR, which is currently approved through October 31, 2025. Public comments were previously requested via the Federal Register on August 28, 2025, during a 60-day comment period. This notice allows for an additional 30 days for public comments.

DATES: Comments may be submitted on or before November 28, 2025.

ADDRESSES: Submit your comments, referencing Docket ID Number EPA-HQ-OA-2025-0172, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Chris Moore, Office of Policy (MC1809T), Environmental Protection Agency, 1200 Pennsylvania Ave. NW, Washington, DC 20460; telephone number: 202-566-2348; email address: moore.chris@epa.gov.

SUPPLEMENTARY INFORMATION: This is a proposed renewal of the ICR, which is currently approved through October 31, 2025. An agency may not conduct or sponsor and a person is not required to respond to a collection of information unless it displays a currently valid OMB control number.

Public comments were previously requested via the Federal Register on August 28, 2025, during a 60-day comment period (90 FR 42007). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA is seeking renewal of a generic information collection request (ICR) for the conduct of focus groups and protocol interviews (hereafter jointly referred to as focus groups) related to economics projects. Over the next three years, the Agency anticipates engaging in survey development efforts associated with a variety of economics projects including those related to drinking water quality, health risk reductions, coastal adaptation and restoration, to name a few. Focus groups are an important part of any survey development process, allowing researchers to directly gauge what specific issues are important to the public and providing a means for explicitly testing draft survey materials. Through these focus groups, the Agency will be able to gain a more in-depth understanding of the public's attitudes, beliefs, motivations and feelings regarding specific issues and will provide valuable information regarding the quality of draft survey instruments.

The information collected in the focus groups will be used primarily to develop and improve economics-related surveys. To the extent that these surveys are ultimately approved and successfully administered, they will serve to expand the Agency's understanding of benefits and costs of a variety of actions and could provide the means to quantitatively assess the effects of others. Participation in the focus groups will be voluntary, and the identity of the participants will be kept confidential.

Form Numbers: None.

Respondents/affected entities: Individuals.

Respondent's obligation to respond: Voluntary.

Estimated number of respondents: 432 (total).

Frequency of response: Once.

Total estimated burden: 288 hours (per year). Burden is defined at 5 CFR 1320.03(b).

Total estimated cost: $100,973 (per year), which includes $80,000 annualized capital or operation & maintenance costs.

Changes in the Estimates: There is decrease of 1,314 hours in the 3-year total estimated respondent burden compared with the ICR currently approved by OMB. A decrease in burden over the previous ICR conveys simply that EPA anticipates less need for the conduct of focus groups under this ICR than in the past.

Courtney Kerwin,
Director, Information Engagement Division.

[FR Doc. 2025-19685 Filed 10-28-25; 8:45 am]

BILLING CODE 6560-50-P